SECURITIES AND EXCHANGE COMMISSION

[File No. 500-1]

Minecore International, Inc.; Order of Suspension of Trading

November 4, 2009.

It appears to the Securities and Exchange Commission that there is a lack of current and accurate information concerning the securities of Minecore International, Inc. (“Minecore”) because it has not filed a periodic report since its 10-KSB for the fiscal year ending December 31, 2001, filed on June 30, 2004.

The Commission is of the opinion that the public interest and the protection of investors require a suspension of trading in the securities of Minecore. Therefore, it is ordered, pursuant to Section 12(k) of the Securities Exchange Act of 1934, that trading in the securities of Minecore is suspended for the period from 9:30 a.m. EST on November 4, 2009, through 11:59 p.m. EST on November 17, 2009.

By the Commission.
Jill M. Peterson,
Assistant Secretary.

[FR Doc. E9-26896 Filed 11-4-09; 11:15 am]

BILLING CODE 8011-01-P